FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 24, 2004.

A. Federal Reserve Bank of St. Louis (Randall C. Sumner, Vice President) 411 Locust Street, St. Louis, Missouri 63166-2034:

1. Charles Keith Akin; Anita Akin; Burkley Investments, Inc.; Parkway Manor - KY; and Parkway Manor - TN all of Clinton, Kentucky (aka the Akin Control Group); to acquire additional voting shares of Purchase Area Bancorp, Bardwell, Kentucky, and thereby indirectly acquire voting shares of Bardwell Deposit Bank, Bardwell, Kentucky.

B. Federal Reserve Bank of Minneapolis (Jacqueline G. Nicholas, Community Affairs Officer) 90 Hennepin Avenue, Minneapolis, Minnesota 55480-0291:

1. Craig K. Potts, Henderson, Nevada; to acquire voting shares of Security State Agency of Aitkin, Inc., Aitkin, Minnesota, and thereby indirectly acquire voting shares of Security State Bank of Aitkin, Aitkin, Minnesota.

2. Lyndon L. Krause and David D. Krause, both of Winnebago, Minnesota; to acquire voting shares of Krause Financial, Inc., Winnebago, Minnesota, and thereby indirectly acquire voting shares of First National Bank in Winnebago, Winnebago, Minnesota.

C. Federal Reserve Bank of Dallas (W. Arthur Tribble, Vice President) 2200 North Pearl Street, Dallas, Texas 75201-2272:

1. Ken Chee-Kin Mok and Li Chu Chang-Mok, Plano, Texas, acting in concert; to acquire additional voting shares of First International Bancorp Texas, Inc., Plano, Texas, and thereby indirectly acquire additional voting shares of First International Bank, Plano, Texas.

Board of Governors of the Federal Reserve System, November 4, 2004.
Robert deV. Frierson,
Deputy Secretary of the Board.

[FR Doc. 04-24999 Filed 11-9-04; 8:45 am]

BILLING CODE 6210-01-S